DEPARTMENT OF THE INTERIOR

Bureau of Land Management

[CO-930-1430-ET; COC-66122]

Proposed Withdrawal: Opportunity for Public Meeting; Colorado

AGENCY: Bureau of Land Management, Interior.

ACTION: Notice.

SUMMARY: The Bureau of Land Management, proposes to withdraw approximately 40.84 acres of public land for 20 years to protect an Administrative Facility. This notice closes this land to operation of the public land laws and to location and entry under the mining laws for up to two years. The land remains open to mineral leasing.

DATES: Comments on this proposed withdrawal or requests for public meeting must be received on or before August 19, 2002.

ADDRESSES: Comments and requests for a meeting should be sent to the Colorado State Director, BLM, 2850 Youngfield Street, Lakewood, Colorado 80215-7076.

FOR FURTHER INFORMATION CONTACT: Doris E. Chelius, 303-239-3706.

SUPPLEMENTARY INFORMATION: On, April 18, 2002, a petition was approved allowing the Bureau of Land management to file an application to withdraw the following described land from settlement, sale, location, or entry under the general land laws, including the mining laws, subject to valid existing rights.

Sixth Principal Meridian

T. 7 N., R91 W.,

Sec. 8, lot 15.

The area described contains 40.84 acres of public land in Moffat County.

The purpose of this withdrawal is to protect facilities which will be constructed to house the Hotshot Fire Crew recently assigned to the Little Snake Field Office.

For a period of 90 days from the date of publication of this notice, all parties who wish to submit comments, suggestions, or objections in connection with this proposed action, may present their views in writing to the Colorado State Director. If it is determined that a public meeting should be held, the public meeting will be scheduled and conducted in accordance with 43 CFR 2310.3-1(c)(2). Notice of the meeting would be published in the Federal Register.

This application will be processed in accordance with the regulations set forth in 43 CFR part 2310.

For a period of two years from the date of publication in the Federal Register, this land will be segregated from the mining laws as specified above unless the application is denied or canceled or the withdrawal is approved prior to that date. During this period the Bureau of Land Management will continue to manage these lands.

Jenny L. Saunders,
Realty Officer.

[FR Doc. 02-12583 Filed 5-17-02; 8:45 am]

BILLING CODE 4310-JB-P